DEPARTMENT OF HEALTH AND HUMAN SERVICES

Centers for Disease Control and Prevention

Advisory Council for the Elimination of Tuberculosis (ACET)

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public, limited only by the space available. The meeting room will accommodate up to 60 people. The public is also welcome to listen to the meeting by telephone, limited only by the number of ports available (100). Time will be available for public comment. The public is welcome to submit written comments in advance of the meeting. Comments should be submitted in writing by email to the contact person listed below. The deadline for receipt is Monday, April 15, 2019. Persons who desire to make an oral statement, may request it at the time of the public comment period on April 16, 2019 at 3:20 p.m. EDT.

DATES: The meeting will be held on April 16, 2019, 10:00 a.m. to 3:30 p.m., EDT.

ADDRESSES: 8 Corporate Blvd., Building 8, Conference Rooms 1A and 1B, Atlanta, Georgia 30329 and Web conference: 1-877-927-1433 and participant passcode: 12016435 and https://adobeconnect.cdc.gov/r5p8l2tytpq/.

FOR FURTHER INFORMATION CONTACT: Margie Scott-Cseh, Committee Management Specialist, CDC, 1600 Clifton Road NE, Mailstop: E-07, Atlanta, Georgia 30329-4018, telephone (404) 639-8317; zkr7@cdc.gov.

SUPPLEMENTARY INFORMATION:

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters to be considered: The agenda will include discussions on (1) Overview of the “Digital Bridge”; (2) Overview of tuberculosis care for migrant detainees; (3) Overview of infrastructure and mechanisms to develop, update, and maintain HIV guidelines; and (4) Update from ACET workgroups. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-04822 Filed 3-14-19; 8:45 am]

BILLING CODE 4163-18-P